DEPARTMENT OF THE INTERIOR

Fish and Wildlife Service

Notice of Intent To Prepare a Comprehensive Conservation Plan and Environmental Assessment for Cape Romain National Wildlife Refuge in Charleston County, SC

AGENCY: Fish and Wildlife Service, Interior.

ACTION: Notice of intent.

SUMMARY: The Fish and Wildlife Service, Southeast Region, intends to gather information necessary to prepare a comprehensive conservation plan and environmental assessment pursuant to the National Environmental Policy Act of 1969 and its implementing regulations.

The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent opportunities available to the public, including opportunities for hunting, fishing, wildlife observation, wildlife photography, and environmental education and interpretation.

The purpose of this notice is to achieve the following:

(1) Advise other agencies and the public of our intentions, and

(2) Obtain suggestions and information on the scope of issues to include in the environmental document.

DATES: Please provide written comments on the scope of issues to include in the environmental document by March 5, 2007.

ADDRESSES: Comments, questions, and requests for more information regarding the Cape Romain National Wildlife Refuge planning process should be sent to: Van Fischer, Natural Resource Planner, South Carolina Lowcountry Refuge Complex, 5801 Highway 17 North, Awendaw, South Carolina 29429; Telephone: 843/928-3264; Fax: 843/928-3803; Electronic mail: van_fischer@fws.gov

SUPPLEMENTARY INFORMATION: Special mailings, newspaper articles, and other media announcements will be used to inform the public and state and local government agencies of the opportunities for input throughout the planning process. Open-house style public meetings will be held during the scoping phase of the comprehensive conservation plan development process. During this process, many elements will be considered, including wildlife and habitat management, public recreational activities, and cultural resource protection. Public input into the planning process is essential. All comments received become part of the official public record. Requests for such comments will be handled in accordance with the Freedom of Information Act and other Service and Departmental policies and procedures.

Cape Romain National Wildlife Refuge was established in 1932 to provide wintering habitat for migratory birds. The refuge's 64,000 acres encompass a 20-mile segment of the Atlantic Coast, which includes barrier islands, saltwater marshes, coastal waterways, fresh and brackish water impoundments, and maritime forests. Of the land area, 28,000 acres are preserved within the National Wilderness Preservation System. Additional information concerning this refuge may be found at the Service's Internet site: http://www.fws.gov/refuges.

Authority: This notice is published under the authority of the National Wildlife Refuge System Improvement Act of 1997, Public Law 105-57.

Dated: December 2, 2006.
Cynthia K. Dohner,
Acting Regional Director.

[FR Doc. E6-22465 Filed 12-29-06; 8:45 am]

BILLING CODE 4310-55-P